NATIONAL AERONAUTICS AND SPACE ADMINISTRATION

[Notice (03-116)]

Notice of Prospective Patent License

AGENCY: National Aeronautics and Space Administration.

ACTION: Notice of prospective patent license.

SUMMARY: NASA hereby gives notice that Regenetech, Inc., of Sugar Land, TX, has applied for a partially exclusive license to practice the inventions described and claimed in U.S. Patent No. 6,485,963, “Growth Stimulation of Biological Cells and Tissue by Electromagnetic Fields and Uses Thereof; U.S. Patent No. 5,153,132, entitled “Three-Dimensional Co-Culture Process;” U.S. Patent No. 5,153,133, entitled “Method for Culturing Mammalian Cells in a Horizontally Rotated Bioreactor;” U.S. Patent No. 5,155,034, entitled “Three-Dimensional Cell to Tissue Assembly Process;” U.S. Patent No. 5,155,035, entitled “Method for Culturing Mammalian Cells in a Perfused Bioreactor;” U.S. Patent No. 5,308,764, entitled “Multi-Cellular Three-Dimensional Living Mammalian Tissue;” U.S. Patent No. 5,496,722, entitled “Method for Producing Non-Neoplastic, 3-Dimensional Mammalian Tissue and Cell Aggregates under Microgravity Culture Conditions and the Products Produced Thereby;” U.S. Patent No. 5,627,021, entitled “Multi-Cellular, Three-Dimensional Living Mammalian Tissue;” U.S. Patent No. 5,846,807, entitled “Media Compositions for Three Dimensional Mammalian Tissue Growth Under Microgravity Culture Conditions;” U.S. Patent No. 5,858,783, entitled “Production of Normal Mammalian Organ Culture Using a Medium Containing MemAlpha, Leibovitz L-15, Glucose Galactose Fructose;” U.S. Patent No. 5,851,816, entitled “Cultured High-Fidelity Three Dimensional Human Urogenital Tract Carcinomas and Process;” and U.S. Patent No. 6,117,674, entitled “Horizontal Rotating-Wall Vessel Propagation in Vitro Human Tissue Models; “ and pending patent application identified as NASA Case No. MSC-22633-2, “Growth Stimulation of Biological Cells and Tissue by Electromagnetic Fields and Uses Thereof.” Each of the above U.S. Patents and the patent application are assigned to the United States of America as represented by the Administrator of the National Aeronautics and Space Administration. Written objections to the prospective grant of a license should be sent to the Johnson Space Center.

DATES: Responses to this notice must be received by October 14, 2003.

FOR FURTHER INFORMATION CONTACT: James Cate, Patent Attorney, NASA Johnson Space Center, Mail Stop HA, Houston, TX 77058-8452; telephone (281) 483-1001.

Dated: September 23, 2003.
Robert M. Stephens,
Deputy General Counsel.

[FR Doc. 03-24531 Filed 9-26-03; 8:45 am]

BILLING CODE 7510-01-P